LEGAL SERVICES CORPORATION

Disaster Relief Emergency Grant Instructions

AGENCY: Legal Services Corporation.

ACTION: Notice of issuance of disaster relief emergency grant instructions.

SUMMARY: The Legal Services Corporation (LSC) has been able, on occasion, to obtain special funding to meet the emergency needs of programs in a disaster area. This notice sets forth instructions for current LSC grant recipients who have experienced needs due to a disaster in a federally-declared disaster area to apply for disaster relief funding, when such funds are available. This information is also posted to the LSC Web site at www.lsc.gov.

EFFECTIVE DATE: These instructions are effective as of April 29, 2004.

FOR FURTHER INFORMATION CONTACT: Kimberly Heron, Program Analyst III, Office of Compliance and Enforcement, Legal Services Corporation, 3333 K St., NW., Washington, DC, 20007, (202) 295-1520 (phone); (202) 337-1254 (fax); heronk@lsc.gov.

SUPPLEMENTARY INFORMATION:

Instructions for Applying for Disaster Relief

Eligibility

The Legal Services Corporation (LSC) has been able, on occasion, to obtain special funding to meet the emergency needs of programs in a disaster area. When funding is available, only current LSC recipients in a federally-declared disaster area are eligible to apply for such emergency funds.

Disaster Relief Grant Application Instructions

To obtain emergency funding from the LSC, a recipient shall submit an application in writing to the President, Legal Services Corporation. The application must be signed by the executive director and the chair of the board of directors of the recipient. Nevertheless, if an emergency is such as to preclude the submission of a written application (such as when the office building has been destroyed as a result of the disaster or there is no electricity in the office) the recipient may make a verbal application for initial processing, by telephoning the Disaster Relief Desk (DRD), Kimberly Heron at (202) 295-1521. An initial verbal request must be followed by a written request as soon as possible.

The following information must be included in the application:

(1) Resources, Need and Objectives

(a) The recipient's name and number;

(b) A description of the damage sustained by recipient and the surge in demand for services as a result of the disaster;

(c) An estimate, in dollars, of lost property, including records, and equipment;

(d) The amount of emergency funds requested;

(e) A brief narrative stating the purpose of the requested funds;

(f) The recipient's current annual budget of revenue and expenses (LSC and non-LSC);

(g) The recipient's fiscal year.

(2) Operational Procedures

Describe the operational procedures for the disaster relief project(s) including the following items where applicable:

(a) The anticipated length of time to restore operations from emergency status to normal;

(b) The anticipated term of the emergency grant (i.e., proposed beginning and termination dates), not to exceed twelve months;

(c) A description of the project, including criteria to be used for determining successful completion;

(3) Grant Assurances

(a) An assurance that recipient will comply with all of the grant assurances applicable to its basic field grant (which are herein incorporated by reference) in the expenditure of the emergency funds; and

(e) An assurance that the recipient will follow the special LSC accounting and reporting requirements for the emergency funds (i.e., separate reporting by natural line item in the annual audit, separate case reporting in the CSR report, and if requested, periodic progress reports to the LSC) specified below.

(4) Budget

Provide a detailed budget of expenses for the emergency need, including the following information:

(a) The amount of emergency funds requested from LSC;

(b) Projected funding from other (non-LSC) sources, including insurance proceeds;

(c) Any in-kind contributions;

(d) Expenses by natural line item; and

(e) Any anticipated purchases in excess of $10,000.

Disaster Relief Emergency Grant Approval Criteria

Given the nature of emergency situations arising from natural disasters, requests for assistance will be processed on a priority basis. The primary emphasis will be on restoring, as quickly as possible, the program's capacity to serve eligible clients.

Disaster Relief Emergency Grant Extensions

To obtain approval for an extension of the grant term, a recipient must submit a request in writing no later than 60 days prior to the termination date of the grant. LSC shall respond to such request no later than 30 days prior to the termination date of the grant.

Disaster Relief Emergency Grant Accounting and Reporting

Accounting for the Grant

The grant must be separately reported by natural line item in recipient's annual audit(s). This reporting may be done either on the face of the financial statements, or in a schedule attached to the financial statements. Any fund balance remaining at the end of the grant period shall be refunded to the LSC at submission of the audit report.

Case Service Reporting

In times of crisis, the immediate needs of victims supersede the need to adhere to the recipient's established priorities and recipients confronted by natural disasters generally dispense with the stated priorities to respond to the most pressing needs of their clients. Depending on the extent of the disaster and the impact it has on the recipient's case activities, the recipient may find that it has processed a substantial number of cases outside its normal priorities and the case reporting would reflect this. To avoid a distorted picture when disaster cases are reported in the regular CSRs, LSC requires that there be separate case reporting for disaster related cases for which emergency funding was provided.

Periodic Progress Reports

If requested, the recipient shall make periodic reports to LSC on the progress being made by the recipient in the completion of the disaster relief project(s).

Victor M. Fortuno,
General Counsel and Vice President for Legal Affairs.

[FR Doc. 04-6980 Filed 3-29-04; 8:45 am]

BILLING CODE 7050-01-P